DEPARTMENT OF TRANSPORTATION

Maritime Administration

[Docket No. MARAD-2020-0127]

Deepwater Port License Application: Blue Marlin Offshore Port, LLC (BMOP)

AGENCY: Maritime Administration, Department of Transportation.

ACTION: Notice of intent; Notice of virtual public meeting; Request for comments.

SUMMARY: The U.S. Coast Guard (USCG), in coordination with the Maritime Administration (MARAD), will prepare an environmental impact statement (EIS) as part of the environmental review of the Blue Marlin Offshore Port, LLC (BMOP) Deepwater port license application. The application proposes the ownership, construction, operation and eventual decommissioning of an offshore oil export deepwater port that would be located within and adjacent to the Outer Continental Shelf (OCS) in West Cameron Lease Blocks (WC) 509 and 508 and East Cameron (EC) Block 263. Following the existing Stingray pipeline, the deepwater port will be approximately 99 statute miles off the coast of Cameron Parish, Louisiana, with an approximate water depth of 162 feet. The deepwater port would allow for the loading of Very Large Crude Carriers (VLCCs) and other sized crude oil cargo carriers via a Catenary Anchor Leg Mooring (CALM). This Notice of Intent (NOI) requests public participation in the scoping process, provides information on how to participate, and announces an informational (virtual) open house and two public meetings for the communities of Cameron Parish, Louisiana and Jefferson and Orange County, Texas. Pursuant to the criteria provided in the Deepwater Port Act of 1974 (the Act), Louisiana and Texas are the designated Adjacent Coastal States for this application.

DATES: There will be two public scoping meetings virtually held in connection with the BMOP deepwater port application. The meetings will be held virtually for the communities of Cameron Parish, Louisiana, and Jefferson and Orange County, Texas, on December 2, 2020, and December 3, 2020, from 6:00 p.m. to 8:00 p.m. central standard time (CST). The virtual public meetings will be preceded by an informational open house via the website at www.BlueMarlinNEPAProcess.com, which will be maintained throughout the NEPA process.

The virtual public meetings may end later than the stated time, depending on the number of persons wishing to speak. Additionally, materials submitted in response to this request for comments on the BMOP deepwater port license application must reach the Federal Docket Management Facility as detailed below by December 3, 2020.

ADDRESSES: Virtual Public Meeting-to register to attend and/or be a speaker at one of the virtual scoping meetings, visit www.BlueMarlinNEPAProcess.com or call 833-201-3773. Attendees may attend online or via telephone. Details will be relayed to you upon registering for the virtual meeting(s). Registration to be a speaker will end at 4:00 p.m. CST on December 2, 2020. Attendees that did not register to speak will be given the opportunity to comment at the end of the virtual meeting(s) after all registered speakers have been given the opportunity to comment.

The public docket for the BMOP deepwater port license application is maintained by the U.S. Department of Transportation, Docket Management Facility, West Building, Ground Floor, Room W12-140, 1200 New Jersey Avenue SE, Washington, DC 20590. The license application is available for viewing at the Regulations.gov website: http://www.regulations.gov under docket number MARAD-2020-0127.

We encourage you to submit comments electronically through the Federal eRulemaking Portal at http://www.regulations.gov. If you submit your comments electronically, it is not necessary to also submit a hard copy. If you cannot submit material using http://www.regulations.gov, please contact either Mr. William Nabach, USCG, or Dr. Efrain Lopez, MARAD, as listed in the following “FOR FURTHER INFORMATION CONTACT” section of this document, which also provides alternate instructions for submitting written comments. Additionally, if you go to the online docket and sign up for email alerts, you will be notified when comments are posted. Anonymous comments will be accepted. All comments received will be posted without change to http://www.regulations.gov and will include any personal information you have provided. The Federal Docket Management Facility's telephone number is 202-366-9317 or 202-366-9826, the fax number is 202-493-2251.

FOR FURTHER INFORMATION CONTACT: Mr. William Nabach, U.S. Coast Guard, telephone: 202-372-1437, email: William.A.Nabach2@uscg.mil, or Dr. Efrain Lopez, Maritime Administration, telephone: 202-366-9761, email: Efrain.Lopez@dot.gov. For questions regarding viewing the Docket, call Docket Operations, telephone: 202-366-9317 or 202-366-9826.

SUPPLEMENTARY INFORMATION:

Virtual Public Meeting and Virtual Open House

We encourage you to visit the informational virtual open house website and attend one of the virtual public meetings to learn about, and comment on, the proposed BMOP deepwater port. You will have the opportunity to verbally submit comments during the virtual public meetings on the scope and significance of the issues related to the proposed deepwater port that should be addressed in the EIS.

Speaker registration is available online at www.BlueMarlinNEPAProcess.com or by calling 833-201-3773. Speakers at the virtual public scoping meetings will be recognized in the following order: elected officials, public agencies, individuals or groups in the sign-up order and then anyone else who wishes to speak.

In order to allow everyone a chance to speak at any of the virtual public meetings, we may limit speaker time, extend the meeting hours, or both. You must identify yourself, and any organization you represent by name. Your remarks will be recorded and/or transcribed for inclusion in the public docket.

Public docket materials will be made available to the public on the Federal Docket Management Facility website (www.regulations.gov).

If you plan to attend one of the virtual public meetings and need special assistance such as sign language interpretation, non-English language translator services or other reasonable accommodation, please notify the USCG or MARAD (see FOR FURTHER INFORMATION CONTACT) at least 7 business days in advance of the virtual public meeting. Include your contact information as well as information about your specific needs.

Request for Comments

We request public comment on this proposal. The comments may relate to, but are not limited to, the environmental impact of the proposed action. All comments will be accepted. The virtual public meetings are not the only opportunity you have to comment on the BMOP deepwater port license application. In addition to, or in place of, attending one of the virtual meetings, you may submit comments directly to the Federal Docket Management Facility during the public comment period (see Dates). We will consider all comments and material received during the 30-day scoping period.

The license application, comments and associated documentation, as well as the draft and final EISs (when published), are available for viewing at the Federal Docket Management System (FDMS) website: http://www.regulations.gov under docket number MARAD-2020-0127.

Public comment submissions should include:

• Docket number MARAD-2020-0127.

• Your name and address.

Submit comments or material using only one of the following methods:

• Electronically (preferred for processing) to the Federal Docket Management System (FDMS) website: http://www.regulations.gov under docket number MARAD-2020-0127.

• By mail to the Federal Docket Management Facility (MARAD-2020-0127), U.S. Department of Transportation, West Building, Ground Floor, Room W12-140, 1200 New Jersey Avenue SE, Washington, DC 20590-0001.

• By personal delivery to the room and address listed above between 9:00 a.m. and 5:00 p.m., Monday through Friday, except Federal holidays.

• By fax to the Federal Docket Management Facility at 202-493-2251.

Faxed, mailed or hand delivered submissions must be unbound, no larger than 8½ by 11 inches and suitable for copying and electronic scanning. The format of electronic submissions should also be no larger than 8½ by 11 inches. If you mail your submission and want to know when it reaches the Federal Docket Management Facility, please include a stamped, self-addressed postcard or envelope.

Regardless of the method used for submitting comments, all submissions will be posted, without change, to the Federal Docket Management Facility website (http://www.regulations.gov) and will include any personal information you provide. Therefore, submitting this information to the docket makes it public. You may wish to read the Privacy and Use Notice that is available on the Federal Docket Management Facility website and the Department of Transportation Privacy Act Notice that appeared in the Federal Register on April 11, 2000 (65 FR 19477), see Privacy Act. You may view docket submissions at the Federal Docket Management Facility or electronically on the Federal Docket Management Facility website.

Background

Information about deepwater ports, the statutes, and regulations governing their licensing, including the application review process, and the receipt of the current application for the proposed BMOP deepwater port appears in the BMOP Notice of Application, previously published in the Federal Register and available for review by going to www.regulations.gov and searching docket number “MARAD-2020-0127.” The “Summary of the Application” from that publication is reprinted below for your convenience.

Consideration of a deepwater port license application includes review of the proposed deepwater port's impact on the natural and human environment. For the proposed deepwater port, USCG and MARAD are the co-lead Federal agencies for determining the scope of this review, and in this case, it has been determined that review must include preparation of an EIS. This NOI is required by 40 CFR 1501.9. It briefly describes the proposed action, possible alternatives and our proposed scoping process. You can address any questions about the proposed action, the scoping process or the EIS to the USCG or MARAD project managers identified in this notice (see FOR FURTHER INFORMATION CONTACT).

Proposed Action and Alternatives

The proposed action requiring environmental review is the Federal licensing of the proposed deepwater port described in “Summary of the Application” below. The alternatives to licensing the proposed port are: (1) Licensing with conditions (including conditions designed to mitigate environmental impact), (2) evaluation of deepwater port and onshore site/pipeline route alternatives or (3) denying the application, which for purposes of environmental review is the “no-action” alternative.

Scoping Process

Public scoping is an early and open process for identifying and determining the scope of issues to be addressed in the EIS. Scoping begins with this notice, continues through the public comment period (see Dates), and ends when USCG and MARAD have completed the following actions:

• Invites the participation of Federal, state, and local agencies, any affected Tribe, the applicant, in this case BMOP, and other interested persons;

• Determines the actions, alternatives and impacts described in 40 CFR 1501.9;

• Identifies and eliminates from detailed study, those issues that are not significant or that have been covered elsewhere;

• Identifies other relevant permitting, environmental review and consultation requirements;

• Indicates the relationship between timing of the environmental review and other aspects of the application process; and

• At its discretion, exercises the options provided in 40 CFR 1500.4 and 40 CFR 1500.5

Once the scoping process is complete, USCG and MARAD will prepare a draft EIS. When complete, MARAD will publish a Federal Register notice announcing public availability of the Draft EIS. (If you want that notice to be sent to you, please contact the USCG or MARAD project manager identified in FOR FURTHER INFORMATION CONTACT). You will have an opportunity to review and comment on the Draft EIS. The USCG, MARAD and other appropriate cooperating agencies will consider the received comments and then prepare the Final EIS. As with the Draft EIS, we will announce the availability of the Final EIS and give you an opportunity for review and comment. The Act requires a final public hearing to be held in the Adjacent Coastal State. Its purpose is to receive comments on matters related to whether or not an operating license should be issued. The final public hearing will be held after the Final EIS is made available for public review and comment.

Summary of the Application

BMOP is proposing to construct, own, and operate a deepwater port terminal in the Gulf of Mexico to export domestically produced crude oil. Use of the deepwater port would include the loading of various grades of crude oil at flow rates of up to 80,000 barrels per hour (bph). The BMOP deepwater port would allow for up to one (1) Very Large Crude Carriers (VLCCs) or other crude oil carriers to moor at the catenary anchor leg mooring (CALM) and connect with the deepwater port via floating connecting crude oil hoses. The maximum frequency of loading VLCCs or other crude oil carriers would be approximately 2 million barrels per day (1,920,000), 365 days per year.

The overall project would consist of offshore and marine components as well as onshore components as described below.

The BMOP deepwater port offshore and marine components would consist of the following:

• Two (2) new CALM Buoys installed, one in WC 508 (CALM Buoy No. 1) and the other in EC 263(CALM Buoy No. 2). The CALM Buoys will be anchored to the seafloor via an engineered mooring system capable of accommodating mooring forces exerted by a VLCC or other large seafaring vessels during loading operations. Two 24-inch diameter floating hoses will be connected to each CALM Buoy. The hoses will be approximately 1,500 feet long and used for loading operations.

• Two new PLEMs installed and anchored on the seafloor. Two 24-inch undersea flexible hoses will be connected to each PLEM and associated CALM Buoy.

• Two Crude Oil Loading Pipelines, approximately 4,710 feet long to PLEM/CALM Buoy No. 1 and 6,085 feet long to PLEM/CALM Buoy No. 2, installed from the WC 509 Platform Complex to the PLEM and CALM locations, one for each PLEM and CALM Buoy. The pipelines will be installed with the top of pipe at least three feet below the natural seafloor.

• New MLV on WC 148 Platform;

• Two new 36-inch risers connected to the Crude Oil Loading Pipelines on WC 509B Platform;

• New control room on WC 509B Platform;

• Three new pig barrels, one on the WC 509A Platform and two on WC 509B Platform;

• Meter station for crude oil on the WC 509B Platform;

• New living quarters (LQ) and heliport on the WC 509C Platform;

• Surge valves and tank on the WC 509B Platform; and

• New ancillary equipment for the 509 Platform (e.g., power generators, instrument/utility air system, fuel tanks, ac units, freshwater makers, firewater system, seawater and freshwater system, sewage treatment unit, fuel gas system, diesel system, closed drain system, open drain system, hydraulic power unit, hypochlorite system, cranes, communications tower and system, radar) to support operation of the offshore facilities.

The BMOP deepwater port onshore storage and supply components would consist of the following:

• Safety Zone—The Applicant is requesting that the USCG Captain of the Port establish a Safety Zone around the entire DWP operations area. The Safety Zone will only be open to entry for VLCCs or other crude oil carriers prepared for connection for loading of crude oil, and the necessary service vessels supporting that process.

• Anchorage area—Existing USCG-designated anchorage areas will be utilized for VLCCs (or other crude carriers) awaiting mooring at a CALM Buoy or if they must disconnect from the CALM Buoys for safety reasons.

• Support vessel mooring area—A designated Service Vessel Mooring Area will be established in proximity to the offshore WC 509 facilities.

• Temporary pre-fabrication yards—Component fabrication will occur at multiple existing fabrication facilities within the GOM coastal region.

• Support facilities—Facilities within the GOM coastal region providing support for offshore operations and maintenance activities (e.g., helicopters, supply vessels, work boats, equipment suppliers, and maintenance workers).

For more information on the BMOP deepwater port project, you can visit the Regulations.gov website: http://www.regulations.gov under docket number MARAD-2020-0127

Privacy Act

The electronic form of all comments received into the Federal Docket Management Facility can be searched by the name of the individual submitting the comment (or signing the comment, if submitted on behalf of an association, business, labor union, etc.). The Department of Transportation Privacy Act Statement can be viewed in the Federal Register published on April 11, 2000 (Volume 65, Number 70, pages 19477-78) or by visiting http://www.regulations.gov.

(Authority: 33 U.S.C. 1501, et seq., 49 CFR 1.93).

Dated: November 2, 2020.
By Order of the Maritime Administrator.
T. Mitchell Hudson, Jr.,
Secretary, Maritime Administration.

[FR Doc. 2020-24550 Filed 11-4-20; 8:45 am]

BILLING CODE 4910-81-P